DEPARTMENT OF TRANSPORTATION

Federal Aviation Administration

14 CFR Part 39

[Docket No. FAA-2022-0190; Project Identifier 2019-CE-048-AD]

RIN 2120-AA64

Airworthiness Directives; Viking Air Limited (Type Certificate Previously Held by Bombardier Inc. and de Havilland Inc.) Airplanes

AGENCY: Federal Aviation Administration (FAA), DOT.

ACTION: Supplemental notice of proposed rulemaking (SNPRM).

SUMMARY: The FAA is revising a notice of proposed rulemaking (NPRM) that would have superseded Airworthiness Directive (AD) 64-09-03, which applies to all de Havilland (type certificate now held by Viking Air Limited) Model DHC-2 “Beaver” airplanes. This action revises the NPRM by changing the required action specified in the proposed AD. Additionally, the FAA is publishing an Initial Regulatory Flexibility Analysis (IRFA) to aid the public in commenting on the potential impacts to small entities from this proposal. The FAA is reopening the comment period to allow the public the chance to comment on the revised proposed action and whether the revised proposed action would have a significant economic impact on a substantial number of small entities. The FAA is proposing this AD to address the unsafe condition on these products and the agency is requesting comments on this SNPRM.

DATES: The FAA must receive comments on this SNPRM by June 9, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2022-0190; or in person at Docket Operations between 9 a.m. and 5 p.m., Monday through Friday, except Federal holidays. The AD docket contains the NPRM, this SNPRM, the mandatory continuing airworthiness information (MCAI), any comments received, and other information. The street address for Docket Operations is listed above.

Material Incorporated by Reference:

• For service information identified in this SNPRM, contact Viking Air Limited Technical Support, 1959 De Havilland Way, Sidney, British Columbia, Canada, V8L 5V5; phone: (800) 663-8444; fax: (250) 656-0673; email: technical.support@vikingair.com; website: vikingair.com/support/service-bulletins.

• You may view this service information at the FAA, Airworthiness Products Section, Operational Safety Branch, 901 Locust, Kansas City, MO 64106. For information on the availability of this material at the FAA, call (817) 222-5110.

FOR FURTHER INFORMATION CONTACT: James Delisio, Continued Operational Safety Program Manager, FAA, New York ACO Branch, 1600 Stewart Avenue, Suite 410, Westbury, NY 11590; phone: (516) 228-7321; email: 9-avs-nyaco-cos@faa.gov.

SUPPLEMENTARY INFORMATION:

Comments Invited

The FAA invites you to send any written relevant data, views, or arguments about this proposal, including the IRFA. Send your comments to an address listed under ADDRESSES. Include “Docket No. FAA-2022-0190; Project Identifier 2019-CE-048-AD” at the beginning of your comments. The most helpful comments reference a specific portion of the proposal, explain the reason for any recommended change, and include supporting data. The FAA will consider all comments received by the closing date and may again revise this proposal because of those comments.

Except for Confidential Business Information (CBI) as described in the following paragraph, and other information as described in 14 CFR 11.35, the FAA will post all comments received, without change, to regulations.gov, including any personal information you provide. The agency will also post a report summarizing each substantive verbal contact received about this SNPRM.

Confidential Business Information

CBI is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this SNPRM. Submissions containing CBI should be sent to James Delisio, Continued Operational Safety Program Manager, FAA, New York ACO Branch, 1600 Stewart Avenue, Suite 410, Westbury, NY 11590. Any commentary that the FAA receives which is not specifically designated as CBI will be placed in the public docket for this rulemaking.

Background

The FAA issued an NPRM (87 FR 7065, February 8, 2022; corrected February 18, 2022 (87 FR 9274)) that would apply to all Viking Air Limited (Viking) Model DHC-2 Mk. I, DHC-2 Mk. II, and DHC-2 Mk. III airplanes. The NPRM proposed to supersede AD 64-09-03, Amendment 718 (29 FR 5390, April 22, 1964) (AD 64-09-03), which applies to all de Havilland (type certificate now held by Viking) Model DHC-2 “Beaver” airplanes. AD 64-09-03 requires inspecting the aileron mass balance weight arms for cracks and corrosion and replacing any damaged part. AD 64-09-03 resulted from cracks and corrosion found on aileron mass balance weight arm part numbers (P/Ns) C2WA151, C2WA152, C2WA127, and C2WA128.

The NPRM proposed to require establishing a corrosion prevention and control program to identify and correct corrosion. In the NPRM, the FAA also proposed to require completing all of the initial tasks identified in the program and reporting corrosion findings to Viking. The NPRM was prompted by AD CF-2019-25, dated July 5, 2019, issued by Transport Canada, which is the airworthiness authority for Canada (referred to after this as “the MCAI”). The MCAI states that it supersedes prior Transport Canada ADs related to a supplementary inspection and corrosion control program for aging airplanes, which identifies specific locations of an airplane that must be inspected to ensure corrosion-related degradation does not result in an unsafe condition. The MCAI continues to require the tasks included in the initial issue of Viking, DHC-2 Beaver Supplemental Inspection and Corrosion Control Manual, PSM 1-2-5, dated June 21, 2017, and requires additional inspections for components of airframe systems other than flight controls, which are included in Viking DHC-2 Beaver Supplemental Inspection and Corrosion Control Manual, PSM 1-2-5, Revision 1, dated January 10, 2019 (Viking PSM 1-2-5, Revision 1). Corrosion-related degradation, if not addressed, could lead to structural failure with consequent loss of control of the airplane.

You may examine the MCAI in the AD docket at regulations.gov under Docket No. FAA-2022-0190.

Actions Since the NPRM Was Issued

Since the FAA issued the NPRM, the FAA revised the proposed actions specified in the NPRM. In the NPRM, the FAA proposed to require establishing a corrosion prevention and control program approved by the FAA. In this SNPRM the FAA proposes to require incorporating into the existing maintenance records for your airplane the actions specified in Parts 2 and 3 of Viking PSM 1-2-5, Revision 1.

In addition, the FAA is reopening the comment period to allow the public the chance to comment on whether the proposed AD would have a significant economic impact on a substantial number of small entities. The FAA is proposing this AD to address the unsafe condition on these products.

Comments

The FAA received comments from 23 commenters. The commenters were the Alaska Air Carriers Association, Alaska Air Transporters, Alaska Aircraft Sales and Maintenance, Alaska Seaplanes, Athens Insurance, Beluga Air, LLC, Enchanted Lake Lodge, Mountain Flying Service, Regal Air, Tailwind Aviation Inc., Taquan Air, Trail Ridge Air Inc., Ward Air, Inc., and several individuals.

The following presents the comments received on the NPRM and the FAA's response to each comment.

Request To Withdraw NPRM: Current Regulations Are Adequate

Alaska Air Carriers Association, Beluga Air, LLC, Trail Ridge Air, Regal Air, Ward Air, Inc., and individual commenters stated that the NPRM is not needed due to existing requirements for annual and 100-hour inspections in the Federal Aviation Regulations.

The FAA does not agree that current regulations require the same inspections as those proposed in the NPRM. The FAA acknowledges that some of the tasks are in locations of the airplane where 100-hour or annual inspections require other inspections, but the inspections proposed in this SNPRM are focused on certain areas of the airplane and more detailed than those covered in the required annual or 100-hour inspections. The inspections specified in this SNPRM are part of a supplemental inspection and corrosion prevention program that is included in Parts 2 and 3 of Viking PSM 1-2-5, Revision 1. These inspection types and intervals address locations or parts that are not currently required to be inspected as part of annual or 100-hour inspections in existing regulations. These new inspections and intervals are needed to detect and address corrosion, which could lead to structural failure with consequent loss of control of the airplane. The FAA has not changed this SNPRM regarding this issue.

Request To Withdraw NPRM: Impact on Small Entities

Alaska Air Carriers Association, Alaska Seaplanes, Beluga Air, LLC, Regal Air, Trail Ridge Air, Ward Air, Inc., and individual commenters questioned the statement in the Regulatory Findings section of the NPRM that the NPRM “[w]ould not have a significant economic impact, positive or negative, on a substantial number of small entities under the criteria of the Regulatory Flexibility Act.” Alaska Air Carriers Association, Alaska Seaplanes, Beluga Air, LLC, Mountain Flying Services, Regal Air, and Trail Ridge Air, noted that Alaska tourism, fishing, hunting, and other businesses would face an adverse economic impact. Some of these commenters noted that the costs of the proposed requirements could put some small or medium-sized businesses out of business. Alaska Air Carriers Association, Alaska Seaplanes, Beluga Air, LLC, and several individual commenters suggested that the NPRM would waste resources or add an undue burden for the small companies that operate these airplanes.

The FAA acknowledges the commenters' concerns and infers that the commenters are requesting that the NPRM be withdrawn due to the perceived adverse economic impact on small entities. Under 14 CFR 39.1, issuance of an AD is based on the finding that an unsafe condition exists or is likely to develop in aircraft of a particular type design. An aging airplane requires more attention during maintenance procedures and, at times, more frequent inspections of structural components to detect damage due to environmental deterioration, accidental damage, and fatigue. The unsafe condition addressed in this SNPRM includes undetected corrosion, which could lead to structural failure and consequent loss of control of the airplane. Inspections and repair are therefore necessary to detect and correct such corrosion before it leads to structural failure. The FAA has not changed this SNPRM regarding this issue.

Regarding the question of the NPRM having a significant economic impact on a substantial number of small entities, the FAA has developed an IRFA for this proposed action and a reason for issuing this SNPRM is to solicit comments on the IRFA.

Request To Withdraw NPRM: Lack of Data on Corrosion-Related Accidents

Alaska Aircraft Sales and Maintenance and an individual commenter asked how many accidents could be traced back to corrosion on these airplanes. One individual commenter added that in over 25 years of performing maintenance, the commenter had not seen any Model DHC-2 airplanes show an unusual tendency for corrosion or excessive stress and added that, on average, there is less corrosion on a Model DHC-2 airplane than is typical of airplanes more than 10 years old. A different individual commenter noted that in 37 years of experience, the commenter was unaware of the affected airplanes having accidents or incidents due to corrosion. That individual commenter added that these airplanes are painted before assembly with corrosion-preventing primer and are probably less prone to corrosion than airplanes of the same age that are painted on the outside after assembly. Taquan Air stated that it is unaware of accidents or failures associated with corrosion on the affected airplanes. The FAA infers that the commenters are requesting that the FAA withdraw the NPRM.

The FAA does not agree with the commenters' requests to withdraw the NPRM. According to 14 CFR 39.5, the issuance of an AD is based on the finding that an unsafe condition exists or is likely to exist or develop in other products of the same type design. This section of the Federal Aviation Regulations does not specify that an accident is necessary for the FAA to determine that there is an unsafe condition. In this case, the FAA independently reviewed the MCAI and related service information and determined an unsafe condition exists and an AD is needed to address that unsafe condition. Further, it is within the FAA's authority and responsibility to issue ADs to require actions to address unsafe conditions that are not otherwise being addressed (or are not addressed adequately) by routine maintenance procedures. In addition, based upon detailed airplane tear-down inspections performed by Viking (the design approval holder), the FAA has determined that the existing maintenance procedures and inspections will not adequately detect corrosion. Although this SNPRM is not tied to a specific corrosion related accident, the FAA has determined that such undetected corrosion could lead to structural failure. The FAA has a responsibility to issue ADs to correct identified unsafe conditions in aircraft, regardless of the location or cause. The FAA has not changed this SNPRM regarding this issue.

Request To Withdraw NPRM: No Obligation To Adopt the Proposed AD

Alaska Air Carriers Association, Alaska Seaplanes, Beluga Air LLC, Regal Air, Trail Ridge Air, and individual commenters requested that the FAA withdraw the NPRM, explaining the FAA has no obligation to enact the NPRM simply because Transport Canada enacted an AD. Some of these commenters claimed that finalizing the NPRM to a final rule would contradict the FAA's requirement to “encourage and develop civil aeronautics” by imposing substantial costs and efforts to comply with that final rule.

The FAA disagrees with withdrawing the NPRM. Although the FAA acknowledges that it has no obligation to adopt an AD to parallel the requirements in the Transport Canada AD, the FAA has a responsibility to issue ADs to require actions to address unsafe conditions that are not otherwise being addressed. As previously stated, the FAA independently reviewed the MCAI and related service information and determined an unsafe condition exists and an AD is needed to address that unsafe condition. The FAA may address such unsafe conditions by requiring revisions to maintenance records as a condition under which airplanes may continue to be operated. Part of the FAA's obligation to “encourage and develop civil aeronautics” is to take any necessary action to keep the existing aircraft fleet safe, which includes the issuance of ADs. The FAA has not changed this SNPRM regarding this issue.

Request To Acknowledge Impacts on Intrastate Aviation in Alaska

Alaska Air Carriers Association, Alaska Seaplanes, Beluga Air LLC, and individual commenters requested that the FAA revise the NPRM to acknowledge that intrastate aviation in Alaska would be affected. Alaska Seaplanes asserted that 13 local Alaska businesses stated that the proposed AD would put them out of business; the commenter added that these businesses are the lifeline to small and rural communities not accessible by other aircraft.

The FAA acknowledges the commenters' concerns. In light of the heavy reliance on aviation for intrastate transportation in Alaska, the FAA has fully considered the effects of this SNPRM (including costs to be borne by affected operators) from the earliest possible stages of AD development. The NPRM was based on those considerations, and was developed with regard to minimizing the economic impact on operators to the extent possible, consistent with the safety objectives of this SNPRM. In any event, the Federal Aviation Regulations (14 CFR part 39) require operators to correct an unsafe condition identified on an airplane to ensure operation of that airplane in an airworthy condition. The FAA has determined that the need to correct the unsafe conditions outweighs any impact on aviation in Alaska. The FAA has not changed this SNPRM regarding this issue.

In addition, regarding the costs of this SNPRM, the FAA has developed an IRFA for this proposed action and a reason for issuing this SNPRM is to solicit comments on the IRFA.

Request To Supersede All Corrosion ADs for the Affected Models

Alaska Air Carriers Association, Beluga Air LLC, Mountail Flying Services, Regal Air, Ward Air, Inc., and individual commenters requested that the NPRM be revised to supersede all ADs related to corrosion prevention and maintenance for the affected airplanes, not just AD 64-09-03. An individual noted that the NPRM conflicts with more than just AD 64-09-03 and added that AD 2008-11-11, Amendment 39-15533 (73 FR 34611, June 18, 2008) (AD 2008-11-11) specifies a penetrant inspection for cracks in the front spar center section web of the tailplane, while task C55-10-02 in Viking PSM 1-2-5, Revision 1, allows using a penetrant or an eddy current inspection, which seems contradictory.

The FAA disagrees with the commenters' requests to supersede all corrosion-related ADs for the affected airplanes. The FAA has reviewed all potentially related ADs against the proposed requirements in this SNPRM and determined that no other ADs need to be superseded or rescinded. Any other ADs involving inspecting for corrosion on the affected airplanes require either inspecting different parts or locations on an airplane or the inspections are not as in-depth or repetitive; therefore they do not overlap with the proposed inspections. This includes AD 2008-11-11, which requires inspecting a different part than that in task C55-10-02 of Viking PSM 1-2-5, Revision 1. The FAA has not changed this SNPRM regarding this issue.

Request To Add Airplanes to Aging Aircraft or Other Existing Rulemaking

Taquan Air and an individual commenter requested that the unsafe condition be addressed by adding these airplanes to the Aging Aircraft rule (14 CFR 135.422), rather than through the NPRM. The commenters noted that doing so would evenly spread the burden, rather than having different corrosion control policies for different airplane models. Taquan Air noted that Alaska has been exempted from the Aging Aircraft rule. Both commenters suggested that 14 CFR part 43 appendix D (which specifies the scope and detail of items to be included in annual and 100-hour inspections) be rewritten to address corrosion. The individual commenter added that 14 CFR 135.422 should apply to all part 135 operators, with a similar 14 CFR regulation applicable to part 91 operators.

The FAA disagrees with adding this to the Aging Aircraft rule. The proposed action would address a known unsafe condition on the structure of Viking Model DHC-2 Mk. I, DHC-2 Mk. II, and DHC-2 Mk. III airplanes. If the FAA finds that other aircraft have similar issues to the affected airplanes, the FAA would look at appropriate rulemaking for those aircraft also. For the Viking Model DHC-2 Mk. I, DHC-2 Mk. II, and DHC-2 Mk. III airplanes, as stated previously, the FAA has determined that annual and 100-hour inspections are currently not adequate to address the unsafe condition identified in this SNPRM. The FAA has a responsibility to address an unsafe condition that is not addressed by general maintenance by issuing an AD. Therefore, the proposed actions of this SNPRM are the appropriate way of addressing the unsafe condition. Adding inspections for corrosion to 14 CFR part 43 appendix D to address the unsafe condition identified in this SNPRM is not appropriate because that corrective action would not be limited to the products affected by this unsafe condition. 14 CFR part 43 appendix D contains general inspections that are not specific to individual products. Therefore, issuing an AD is the appropriate vehicle for addressing this identified unsafe condition. The FAA has not changed this SNPRM regarding this issue.

Request To Revise the Number of Affected Airplanes

Alaska Air Transporters, Alaska Seaplanes, Athens Insurance, Enchanted Lake Lodge, Tailwind Aviation, and individual commenters requested that the Costs of Compliance section in the NPRM be revised to reflect that more than 135 airplanes of U.S. registry would be affected. Several of these commenters suggested that 382 airplanes of U.S. registry would be affected, while one individual commenter stated that there are “more like 400 airplanes involved.” A second individual commenter noted that many of these airplanes have been erroneously registered as Model L-20A airplanes due to incorrect procedures when the airplanes were imported or converted from military to civilian use.

The FAA agrees with the commenters' request to revise the number of affected airplanes of U.S. registry. The FAA has re-evaluated the data and determined that 409 airplanes of U.S. registry is a better estimate. The FAA notes that there are no airplanes on the U.S. registry listed as Model L-20A airplanes. The FAA has revised the Costs of Compliance section of this SNPRM accordingly.

Request To Revise Costs of Compliance: Labor Rate

Alaska Air Transporters, Athens Insurance, Enchanted Lake Lodge, Tailwind Aviation, and several individual commenters requested that the FAA revise the labor rate in the Costs of Compliance section of the NPRM. The commenters noted that current labor rates are anywhere from $110 to $150 per hour. Several of these commenters added that the proposed costs do not consider airplane downtime or the current shortage of qualified mechanics able to do the inspections.

Additionally, Alaska Seaplanes asserted that three operators have complied with the service information referenced in the NPRM and the cost of compliance was $65,000 to $125,000, not the $29,070 per airplane estimated in the NPRM.

The FAA disagrees with the commenters' requests to revise the labor rate in the Costs of Compliance section of this SNPRM. The FAA notes that the labor rate of $85 per hour is provided by the FAA Office of Aviation Policy and Plans for the FAA to use when estimating the labor costs of complying with AD requirements. Regarding the comments on down-time and labor shortages, the FAA acknowledges the commenters' concerns. The FAA recognizes that in accomplishing the requirements of any AD, operators might incur “indirect” costs in addition to the “direct” costs that are reflected in the cost analysis presented in the AD. However, the cost analysis in ADs typically does not include indirect costs since the FAA does not have sufficient information to evaluate these costs including additional down-time and loss of revenue. The FAA has not changed this SNPRM regarding this issue.

Request To Revise Requirements Based on Airplane Usage Conditions

Alaska Aircraft Sales and Maintenance, Alaska Air Transporters, Athens Insurance, Enchanted Lake Lodge, Mountain Flying Service, Tailwind Aviation, Taquan Air, and several individuals requested that the NPRM be revised to have different requirements based on how the airplane is used. Alaska Aircraft Sales and Maintenance suggested that the NPRM penalized operators by applying one program to all operating environments. Several of these commenters noted that airplanes used on wheels or only in freshwater would have less exposure to factors causing corrosion than airplanes operated in saltwater and suggested the requirements should be revised accordingly. Mountain Flying Services noted that its airplane is kept in a heated hanger when not in use, has been rebuilt, and has had minimal time in water, which makes it less susceptible to corrosion. An individual commenter suggested the NPRM should allow both specificity and flexibility based on atmospheric conditions, saltwater exposure, and time on floats.

The FAA disagrees with the commenters' requests to change the NPRM based on different airplane operational usage. There is no current requirement to track the hours spent flying in different conditions or types of water. Additionally, operators may not know the entire flight history of an airplane. Without this detailed knowledge of each airplane, it would be impossible for the FAA to develop a special set of inspections based on airplane usage conditions. However, operators may submit a proposal for revised requirements by requesting an alternative method of compliance (AMOC) using the procedures specified in paragraph (i) of this SNPRM. The FAA has not changed this SNPRM regarding this issue.

Request To Clarify Process for Creating Corrosion Prevention and Control Program

Alaska Air Carriers Association, Alaska Aircraft Sales and Maintenance, Regal Air, Taquan Air, Trail Ridge Air Inc., and several individual commenters asked for clarity regarding the process of creating and getting approval for a corrosion prevention and control program. Alaska Aircraft Sales and Maintenance asked what the guidance will be for an operator who chooses to write its own program versus getting an AMOC. Alaska Aircraft Sales and Maintenance asked if any maintenance inspector could approve the program or if it would have to go to the aircraft certification office (ACO), and further questioned how the operator would comply in a timely manner if ACO approval is delayed. One individual commenter noted that the proposed AD does not include a specific definition of what the program would require, only that it should line up with an undated revision of a Viking maintenance manual. That same individual commenter added that the affected airplanes are already maintained following maintenance instructions and recommended practices (and compliance times when scheduling permits) in Viking Service Bulletin V2/0011, Revision NC, dated November 28, 2019 (Viking Service Bulletin V2/0011, Revision NC), which is related to the Viking maintenance manual, so operators should not be held to a higher level of accountability. A second individual commenter noted that it appears the NPRM would give Viking PSM 1-2-5, Revision 1, the same authority and weight as an airworthiness limitation, or operators could write their own program and get it approved by the FAA. That same individual commenter questioned what would happen when Viking PSM 1-2-5, Revision 1, is revised and contradicts the AD requirements. A third individual commenter suggested it is unfair for the FAA to require operators to develop a program without the proper qualifications, experience, or training. That same individual commenter suggested that the lack of guidance and procedures would leave room for interpretation, leading to multiple exhanges with the FAA and an ever-evolving process that could lead to significant delays and could ground airplanes. A fourth individual commenter added that trying to design a manual to be approved by several different parties could lead to confusion for both the operator submitting the manual and the FAA, and suggested targeting the area of concern and inspections based on existing Advisory Circular (AC) 43-4B, Corrosion Control for Aircraft, dated September 11, 2018. Taquan Air asked how long it would take to get a program approved. Taquan Air also asked if the Viking corrosion control program is an approved method for establishing a corrosion prevention and control program. Taquan Air suggested that the FAA establish areas that need to be in the program and an outline of expectations, so operators can get it correct.

The FAA acknowledges the commenters' concerns regarding the creation of a corrosion prevention and control program. To make compliance easier for operators and eliminate the need to create an FAA-approved corrosion prevention and control program, the FAA simplified the proposed actions. This SNPRM would require incorporating the inspections in Parts 2 and 3 of Viking PSM 1-2-5, Revision 1, into the existing maintenance records. In Note 1 to paragraph (g) of the NPRM, the use of Viking PSM 1-2-5, Revision 1, was identified as an acceptable means of compliance but was not required to be used. That note has been removed from this SNPRM and the subsequent note that appeared as Note 2 to paragraph (g) has been has re-identified as Note 1 to paragraph (g) in this proposed AD.

The FAA acknowledges that Viking Service Bulletin V2/0011, Revision NC, is related to this SNPRM because it lists the inspection tasks and descriptions that are specified in Viking PSM 1-2-5, Revision 1, and specifies to accomplish those tasks following the procedures in Viking PSM 1-2-5, Revision 1. Note 1 to paragraph (g) in this proposed AD refers to Viking Service Bulletin V2/0011, Revision NC, as an additional source of information.

If Transport Canada or the FAA determines that any revised tasks in a future Viking PSM are necessary to address an unsafe condition, the FAA will consider future rulemaking to require operators to accomplish those tasks. The FAA also acknowledges the commenters' concerns regarding delays and timeliness of approving a corrosion prevention and control program, however, since this proposed AD would require operators to incorporate the inspections in Parts 2 and 3 of Viking PSM 1-2-5, Revision 1, into the existing maintenance records, those concerns should be mitigated.

Request To Remove or Revise Certain Inspection Requirements

An individual commenter stated that Viking PSM 1-2-5, Revision 1, is duplicative of Viking PSM 1-2-2, DHC 2 Beaver Maintenance Manual, Revision 4, dated March 28, 2018 (Viking PSM 1-2-2, Revision 4), and provided a summary of inspections that are already included in Viking PSM 1-2-2, Revision 4, and other service information. The commenter added that the new inspections in Viking PSM 1-2-5, Revision 1, are non-destuctive testing (NDT) inspections that in Canada are issued with a pass/fall certificate. The commenter added that the pass/fail documentation does not contain any actual measured results, therefore the statistical predictive modeling for time to failure (which would allow operators to plan replacement/overhaul activities) cannot be accomplished. The commenter provided several suggestions including: Viking be required to supply measured results and predictive indicators to operators; duplicate inspection points related to Viking PSM 1-2-2, Revision 4, be removed from the NPRM; a recommended order of operations for the inspections be provided so they are streamlined; and that ADs be combined for simplification of maintenance.

The FAA acknowledges the commenter's concerns about potential duplication between Viking PSM 1-2-2, Revision 4, and Viking PSM 1-2-5, Revision 1. However, the inspections in these two documents are designed to complement each other. Viking PSM 1-2-5, Revision 1, refers to Viking PSM 1-2-2, Revision 4, and other documents. The recommended supplemental inspection and control program in Viking PSM 1-2-5, Revision 1, does not replace any aspect of the current inspection program that is described in Viking PSM 1-2-2, Revision 4, or other referenced documents. The FAA further notes that the FAA cannot use an AD to require Viking to supply results, indicators, or other information to operators, although individual operators could request that information from Viking. The FAA has not changed this SNPRM regarding this issue.

Request To Allow Phase-in of Inspections

Alaska Air Transporters, Alaska Aircraft Sales and Maintenance, Athens Insurance, Enchanted Lake Lodge, Mountain Flying Services, Tailwind Aviation, and two individual commenters requested that the NPRM be revised to allow a phase-in period for the proposed new requirements. Several of these commenters noted that fully implementing the Viking PSM 1-2-5, Revision 1, and inspections in one year would double or triple their budgeted maintenance costs. Several of these commenters suggested allowing a 5-year incremental implementation of the manual, with different inspections required each year. One individual commenter noted that the airplane fleet is not that large, and flexibility could be afforded, which would allow operators to use multiple seasons of revenue to fund the inspections. Alaska Aircraft Sales and Maintenance noted that the 8-month deadline for initial inspections is too restrictive and should be phased-in, similar to Viking PSM 1-2-5, Revision 1, or aligned to be performed at the same time as other required service actions. Alaska Aircraft Sales and Maintenance added that operators should be provided credit for the initial inspection if they have already done a given task.

The FAA partially agrees with the commenters' requests to extend the compliance times. Paragraph (g) of this proposed AD would require incorporating the inspections in Parts 2 and 3 of Viking PSM 1-2-5, Revision 1, into the existing maintenance records and doing each initial task within 6 months after the effective date of the final rule or at the threshold for each applicable task specified in Part 3 of Viking Product Support Manual PSM 1-2-5, Revision 1, whichever occurs later. The FAA disagrees with increasing the compliance time up to 5 years.

Regarding Alaska Aircraft Sales and Maintenance's request for credit, the FAA agrees to provide clarification. Paragraph (f) of this proposed AD states to accomplish the required actions within the compliance times specified, “unless already done.” Therefore, if operators have accomplished the actions required for compliance specified in this SNPRM before the effective date of the final rule, no further action is necessary, unless the task is a repetitive action and then it would be required at the repetitive interval. The FAA has not revised this SNPRM in this regard.

Request To Allow Mechanics To Perform Certain Tasks

An individual requested that “properly trained mechanics” be allowed to perform the NDT inspections (tasks). Ward Air requested that an “in-house trained aircraft technician” using “modern technology” be allowed to do the required ultrasonic testing rather than requiring an operator to hire an outside Level II trained technician to perform the testing.

The FAA partially agrees with the commenters' requests. Operators can use an in-house properly trained individual with qualifications equivalent to Level II or Level III to do the NDT inspections. FAA Advisory Circular 65-31B, Training, Qualification, and Certification of Nondestructive Inspection Personnel, dated February 24, 2014, contains FAA-approved Level II and Level III qualification standards critieria for inspection personnel doing NDT inspections. The FAA does not agree that this SNPRM specifies a requirement to hire outside properly trained Level II NDT personnel. Viking PSM 1-2-5, Revision 1, specifies that personnel certified as Level II or higher, as acceptable to the operator's cognizant airworthiness authority, can do the NDT inspections. The FAA has not changed this SNPRM regarding this issue.

Request To Require Reporting to FAA Not Viking

An individual commenter requested that the NPRM be revised so that the results of any required reporting are sent to the FAA through the FAA's service difficulty reporting system, and not sent to a foreign company (Viking) that is not overseen by the FAA.

The FAA disagrees with the commenter's request. Transport Canada is the State of Design Authority and Viking is the type certificate holder for Model DHC-2 Mk. I, DHC-2 Mk. II, and DHC-2 Mk. III airplanes. As such, they should be evaluating the reports to determine if any additional actions should be required to address the unsafe condition and through the appropriate bilateral airworthiness agreement will share such information with the FAA. For these reasons, the reports should be sent to Viking. The FAA has not changed this SNPRM regarding this issue.

Revised Estimated Costs of Compliance in This SNPRM

Based on the new requirement specified in paragraph (g) of this proposed AD to incorporate the inspections in Parts 2 and 3 of Viking PSM 1-2-5, Revision 1, into the existing maintenance records, the FAA has revised the estimated costs associated with paragraph (g) of this AD from 342 work-hours to 1 work-hour. The proposed requirements to establish a corrosion prevention program and the initial inspection tasks that were included in the NPRM were removed from this SNPRM.

FAA's Determination

These products have been approved by the aviation authority of another country and are approved for operation in the United States. Pursuant to the FAA's bilateral agreement with this State of Design Authority, it has notified the FAA of the unsafe condition described in the MCAI described above. The FAA is issuing this SNPRM after determining that the unsafe condition described previously is likely to exist or develop on other products of the same type design. At the request of some commenters, the FAA is reopening the comment period of this SNPRM to allow the public the chance to comment on the economic impact on a substantial number of small entities. This SNPRM also contains the changes discussed previously.

Proposed AD Requirements in This SNPRM

This proposed AD would retain none of the requirements of AD 64-09-03. This proposed AD would require, within 90 days after the effective date of the final rule, incorporating into the existing maintenance records the actions specified in Parts 2 and 3 of Viking PSM 1-2-5, Revision 1, and doing each initial task within 6 months after the effective date of the proposed AD or at the threshold for each applicable task specified in Part 3 of Viking Product Support Manual PSM 1-2-5, Revision 1, whichever occurs later. This proposed AD would also require reporting corrosion findings to Viking. Because the inspection of the aileron balance weight arms required by AD 64-09-03 would be included in the revision of the existing maintenance records, this proposed AD would supersede AD 64-09-03.

ADs Mandating Airworthiness Limitations (ALS)

The FAA has previously mandated airworthiness limitations by issuing ADs that require revising the ALS of the existing maintenance manual or instructions for continued airworthiness to incorporate new or revised inspections. This proposed AD, however, would require establishing and incorporating new inspections into the existing maintenance records required by 14 CFR 91.417(a)(2) or 135.439(a)(2) for your airplane. The FAA does not intend this as a substantive change. Requiring incorporation of the new ALS requirements into the existing maintenance records, rather than requiring individual repetitive inspections and replacements, allows operators to record AD compliance once after updating the existing maintenance records, rather than recording compliance after every inspection and part replacement.

Related Service Information Under 1 CFR Part 51

The FAA reviewed Viking PSM 1-2-5, Revision 1, which specifies procedures for inspecting locations of the airplane that are particularly susceptible to corrosion-related degradation and includes repetitive inspection intervals, defines the different levels of corrosion, and provides corrective action if corrosion is found.

This service information is reasonably available because the interested parties have access to it through their normal course of business or by the means identified in ADDRESSES.

Other Related Service Information

The FAA reviewed Viking Service Bulletin V2/0011, Revision NC. This service information provides a list of new inspection tasks that have been added to the DHC-2 supplementary inspection and corrosion control program, Viking PSM-1-2-5, Revision 1.

Impact on Intrastate Aviation in Alaska

In light of the heavy reliance on aviation for intrastate transportation in Alaska, the FAA has fully considered the effects of this SNPRM (including costs to be borne by affected operators) from the earliest possible stages of AD development. As previously stated, 14 CFR part 39 requires operators to correct an unsafe condition identified on an airplane to ensure operation of that airplane in an airworthy condition. The FAA has determined that the need to correct corrosion-related degradation in aging aircraft, which could lead to structural failure with consequent loss of control of the airplane, outweighs any impact on aviation in Alaska.

Costs of Compliance

The FAA estimates that this AD, if adopted as proposed, would affect 409 airplanes of U.S. registry. The FAA also estimates that it would take about 1 work-hour per airplane at a labor rate of $85 per work-hour to revise the existing maintenance records.

Based on these figures, the FAA estimates the cost of this proposed AD on U.S. operators to be $34,765 or $85 per airplane.

The FAA estimates it would take about 1 work-hour to report any Level 2 corrosion found during the proposed initial or subsequent inspections or any Level 3 corrosion found during the proposed initial or subsequent inspections, for an estimated cost of $85 per airplane.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Flexibility Determination

The Regulatory Flexibility Act of 1980, Public Law 96-354, 94 Stat. 1164 (5 U.S.C. 601-612) (RFA) establishes as a principle of regulatory issuance that agencies shall endeavor, consistent with the objective of the rule and of applicable statutes, to fit regulatory and informational requirements to the scale of the businesses, organizations, and governmental jurisdictions subject to regulation.

To achieve that principle, the RFA requires agencies to solicit and consider flexible regulatory proposals and to explain the rationale for their actions to assure that such proposals are given serious consideration. The RFA covers a wide-range of small entities, including small businesses, not-for-profit organizations, and small governmental jurisdictions.

Agencies must perform a review to determine whether a proposed or final rule will have a significant economic impact on a substantial number of small entities. If the agency determines that it will, the agency must prepare a regulatory flexibility analysis as described in the RFA. Based on the comments received following publication of the NPRM, the FAA has completed an IRFA and requests comments from affected small entities. The purpose of this analysis is to identify the number of small entities affected, assess the economic impact of the proposed regulation on them, and consider less burdensome alternatives and still meet the agency's statutory objectives.

Initial Regulatory Flexibility Act Analysis

The RFA, as amended by the Small Business Regulatory Enforcement Fairness Act of 1996 (Pub. L. 104-121, 110 Stat. 857, Mar. 29, 1996) and the Small Business Jobs Act of 2010 (Pub. L. 111-240, 124 Stat. 2504, Sept. 27, 2010), requires Federal agencies to consider the effects of the regulatory action on small business and other small entities and to minimize any significant economic impact. The term “small entities” comprises small businesses and small organizations that are independently owned and operated and are not dominant in their fields, and small governmental jurisdictions with populations of less than fifty thousand (50,000).

The FAA is publishing this IRFA to aid the public in commenting on the potential impacts to small entities from this proposal. The FAA invites interested parties to submit data and information regarding the potential economic impact that would result from the proposal. The FAA will consider comments when making a determination or when completing a Final Regulatory Flexibility Assessment.

Under Sections 603(b) and (c) of the RFA, the initial regulatory flexibility analysis for a proposed rule must contain the following:

(1) A description of the reasons why the action by the agency is being considered;

(2) A succinct statement of the objectives of, and legal basis for, the proposed rule;

(3) A description of and, where feasible, an estimate of the number of small entities to which the proposed rule will apply;

(4) A description of the projected reporting, recordkeeping, and other compliance requirements of the proposed rule, including an estimate of the classes of small entities which will be subject to the requirement and the type of professional skills necessary for preparation of the report or record;

(5) An identification, to the extent practicable, of all relevant Federal rules that may duplicate, overlap, or conflict with the proposed rule; and

(6) A description of any significant alternatives to the proposed rule which accomplish the stated objectives of applicable statutes and which minimize any significant economic impact of the proposed rule on small entities.

1. Reasons the Action Is Being Considered

The NPRM proposed to supersede AD 64-09-03, which applies to all de Havilland (type certificate now held by Viking) Model DHC-2 “Beaver” airplanes, because after the FAA issued AD 64-09-03 Transport Canada superseded its MCAI to identify specific locations of an airplane that must be inspected to ensure corrosion-related degradation does not result in an unsafe condition. The NPRM proposed to require establishing a corrosion prevention and control program to identify and correct corrosion, completing all of the initial tasks identified in the program, and reporting corrosion findings to Viking. The proposed corrosion prevention and control program would incude the inspection of the aileron balance weight arms required by AD 64-09-03.

2. Objectives and Legal Basis of the Proposed Rule

The objective of the actions proposed in this SNPRM is to meet the same safety intent as those actions proposed in the NPRM. The FAA issued the NPRM under the authority described in Title 49, Subtitle VII, Part A, Subpart III, Section 44701, General requirements. Under that section, the FAA is charged with promoting safe flight of civil aircraft in air commerce by prescribing minimum safety standards required in the interest of safety. This regulation is within the scope of that authority because it addresses an unsafe condition that is likely to exist or develop on Viking Model DHC-2 Mk. I, DHC-2 Mk. II, and DHC-2 Mk. III airplanes.

Title 49 of the United States Code specifies the FAA's authority to issue rules on aviation safety. Subtitle I, section 106, describes the authority of the FAA Administrator. Subtitle VII: Aviation Programs, describes in more detail the scope of the Agency's authority.

3. All Federal Rules That May Duplicate, Overlap, or Conflict

There are no relevant Federal rules that may duplicate, overlap, or conflict with the proposed rule.

4. Description and Estimate of the Number of Small Entities

The FAA used the definition of small entities in the RFA for this analysis. The RFA defines small entities as small businesses, small governmental jurisdictions, or small organizations. In 5 U.S.C. 601(3), the RFA defines “small business” to have the same meaning as “small business concern” under section 3 of the Small Business Act. The Small Business Act authorizes the Small Business Administration (SBA) to define “small business” by issuing regulations.

SBA (2022) has established size standards for various types of economic activities, or industries, under the North American Industry Classification System (NAICS).¹ These size standards generally define small businesses based on the number of employees or annual receipts.

¹ Small Business Administration (SBA). 2022. Table of Size Standards. Effective July 14, 2022. https://www.sba.gov/document/support-table-size-standards.

The FAA Civil Aircraft Registry shows 409 Model DHC-2 Mk. I, DHC-2 Mk. II, and DHC-2 Mk. III airplanes that would be affected by this SNPRM. These 409 airplanes are registered to 235 private businesses, 76 individuals, and 3 government agencies. The 76 individuals and 3 government agencies are excluded from this analysis as the RFA does not apply to individuals and the 3 government agencies are not small entities as defined by the RFA.²

² Two airplanes are registered to the U.S. Department of the Interior. Five airplanes are registered to the United States Forest Service, within the U.S. Department of Agriculture. Two airplanes are registered to the State of Alaska to the Alaska Department of Fish & Game. These government agencies and are not small entities under the RFA.

Three hundred nineteen (319) airplanes are owned and operated by 235 private entities. A sample of 50 private businesses was randomly selected for the analysis.³ Of the 50 sampled entities, 45 were found to be small. The results of the cost impact analysis for these 45 small entities is shown in Table 1 and will be discussed in the following section.

³ The sample was selected by shuffling the order of the list of 409 DHC-2 airplanes in the FAA Registry and going down the randomized list. If revenue and employee count data were available, it was included in the sample; otherwise, it was excluded. This process was repeated until 50 entities, for which revenue and employee data were available, had been added to the sample. The shuffling was accomplished by giving each entry in the registry an index value between 0 and 1 using Excel's RAND function. The entries were then sorted by that index value to randomize their order.

Table 1—Cost Impact on Small Entities
Operator | FAA registry type | DHC-2 A/C | Revenues ($1,000) | Cost | Cost/ revenue (%) | NAICS code | Size standard | NAICS industry
ALASKAS FISHING UNLIMITED INC | Non-Citizen Corp | 1 | 79 | $170.0 | 0.2 | 721214 | $8 mn | Recreational and Vacation Camps (except Campgrounds).
DOUGLAS AVIATION LTD | Corporation | 2 | 90 | 340.0 | 0.4 | 541990 | $17 mn | All Other Professional, Scientific and Technical Services.
NORTHSTAR HOLDINGS LLC | LLC | 3 | 110 | 510.0 | 0.5 | 551112 | $40 mn | Offices of Other Holding Companies.
RHK OF KANSAS | Corporation | 1 | 110 | 170.0 | 0.2 | 541110 | $13.5 mn | Offices of Lawyers.
SUMMIT LEASING LLC | LLC | 1 | 110 | 170.0 | 0.2 | 532490 | $35 mn | Other Comm'l & Ind. Machinery and Equip. Rental & Leasing.
JESPERSEN AIRCRAFT SERVICES INC | Corporation | 3 | 113 | 510.0 | 0.4 | 481219 | $22 mn | Other Nonscheduled Air Transportation.
KATMAI AIR LLC | LLC | 1 | 117 | 170.0 | 0.1 | 532411 | $40 mn | Comm'l Air, Rail, & Water Transp. Equip. Rental and Leasing.
MUSTANG HIGH FLIGHT LLC | LLC | 1 | 127 | 170.0 | 0.1 | 334511 | 1,250 emp | Search, Detect., Nav., Guid., Aero., & Naut. Systems & Inst. Mfg.
FLIGHT MANAGEMENT LLC | LLC | 2 | 161 | 340.0 | 0.2 | 561110 | $11 mn | Office Administrative Services.
NEWHALEN LODGE INC | Corporation | 3 | 165 | 510.0 | 0.3 | 721199 | $8 mn | All Other Traveler Accommodation.
4R AVIATION LLC | LLC | 1 | 177 | 170.0 | 0.1 | 336411 | 1,500 emp | Aircraft Manufacturing.
RAINBOW KING LODGE INC | Corporation | 2 | 209 | 340.0 | 0.2 | 721199 | $8 mn | All Other Traveler Accommodation.
DOYON AIRCRAFT LEASING LLC | LLC | 1 | 250 | 170.0 | 0.1 | 532411 | $40 mn | Comm'l Air, Rail, & Water Transp. Equip. Rental and Leasing.
KENMORE CREW LEASING INC TRUSTEE | Corporation | 1 | 278 | 170.0 | 0.1 | 532490 | $35 mn | Other Comm'l & Ind. Machinery and Equip. Rental & Leasing.
COMANCHE FIGHTERS LLC | LLC | 1 | 301 | 170.0 | 0.1 | 813930 | $14.5 mn | Labor Unions and Similar Labor Organizations.
BAY AIR INC | Corporation | 1 | 307 | 170.0 | 0.1 | 481111 | 1,500 emp | Scheduled Passenger Air Transportation.
COYOTE AIR LLC | LLC | 2 | 310 | $340.0 | 0.1 | 481211 | 1,500 emp | Nonscheduled Chartered Passenger Air Transp.
KINGFISHER AIR INC | Corporation | 1 | 366 | 170.0 | 0.0 | 481219 | $22 mn | Other Nonscheduled Air Transportation.
ASSOCIATED LEASING LLC | LLC | 1 | 500 | 170.0 | 0.0 | 532490 | $35 mn | Other Comm'l & Ind. Machinery and Equip. Rental & Leasing.
TIKCHIK NARROWS LODGE INC | Corporation | 3 | 720 | 510.0 | 0.1 | 721214 | $8 mn | Recreational and Vacation Camps (except Campgrounds).
NORTHWEST SEAPLANES INC | Corporation | 3 | 750 | 510.0 | 0.1 | 481111 | 1,500 emp | Scheduled Passenger Air Transportation.
SNOW MOUNTAIN ENTERPRISES LLC | LLC | 1 | 750 | 170.0 | 0.0 | 532000 | $8 mn | Rental and Leasing Services, N.F.S.
ISLAND WINGS AIR SERVICE LLC | LLC | 2 | 956 | 340.0 | 0.0 | 481211 | 1,500 emp | Nonscheduled Chartered Passenger Air Transp.
TVPX AIRCRAFT SOLUTIONS INC TRUSTEE | Corporation | 3 | 1,157 | 510.0 | 0.0 | 336310 | 1,000 emp | Motor Vehicle Gasoline Engine and Engine Parts Mfg.
SHELDON AIR SERVICE LLC | LLC | 1 | 1,400 | 170.0 | 0.0 | 481219 | $22 mn | Other Nonscheduled Air Transportation.
TALKEETNA AIR TAXI INC | Corporation | 1 | 1,635 | 170.0 | 0.0 | 481219 | $22 mn | Other Nonscheduled Air Transportation.
NO SEE UM LODGE INC | Corporation | 3 | 2,036 | 510.0 | 0.0 | 721214 | $8 mn | Recreational and Vacation Camps (except Campgrounds).
WARD AIR INC | Corporation | 4 | 2,191 | 680.0 | 0.0 | 481219 | $22 mn | Other Nonscheduled Air Transportation.
HISTORIC FLIGHT FOUNDATION | Corporation | 1 | 2,500 | 340.0 | 0.0 | 712110 | $30 mn | Museums.
LAKE HAVASU SEAPLANES LLC | LLC | 1 | 2,500 | 170.0 | 0.0 | 611000 | $8 mn | Educational Services, N.F.S.
RDJ BROTHERS TRUCKING INC | Corporation | 1 | 2,500 | 170.0 | 0.0 | 236000 | $39.5 mn | Construction of buildings, N.F.S.
SEAWIND AVIATION INC | Corporation | 2 | 2,500 | 170.0 | 0.0 | 481211 | 1,500 emp | Nonscheduled Chartered Passenger Air Transp.
TIKCHIK AIRVENTURES LLC | LLC | 1 | 2,500 | 170.0 | 0.0 | 481211 | 1,500 emp | Nonscheduled Chartered Passenger Air Transp.
WOLF TRAIL LODGE INC | Corporation | 1 | 2,500 | 170.0 | 0.0 | 721000 | $8 mn | Accommodation, N.F.S.
ANDREW AIRWAYS INC | Corporation | 3 | 2,576 | 510.0 | 0.0 | 485999 | $16.5 mn | All Other Transit and Ground Passenger Transportation.
ALASKAS ENCHANTED LAKE LODGE INC | Corporation | 2 | 2,729 | 340.0 | 0.0 | 721310 | $12.5 mn | Rooming & Boarding Houses, Dormitories, and Workers' Camps.
RAINBOW RIVER LODGE LLC | LLC | 2 | 4,000 | 340.0 | 0.0 | 721214 | $8 mn | Recreational and Vacation Camps (except Campgrounds).
K BAY AIR LLC | LLC | 1 | 4,427 | 170.0 | 0.0 | 481219 | $22 mn | Other Nonscheduled Air Transportation.
RAPIDS CAMP LODGE INC | Corporation | 1 | 7,000 | 170.0 | 0.0 | 713990 | $8 mn | All Other Amusement and Recreation Industries.
PROGRESSIVE PLASTICS INC | Corporation | 1 | 7,500 | 170.0 | 0.0 | 326199 | 750 emp | All Other Plastics Product Manufacturing.
BROWN HELICOPTER INC | Corporation | 1 | 9,000 | 170.0 | 0.0 | 336412 | 1,500 emp | Aircraft Engine and Engine Parts Manufacturing.
PERRYCOOK FLIGHT SERVICES LLC | LLC | 1 | 12,500 | 170.0 | 0.0 | 481211 | 1,500 emp | Nonscheduled Chartered Passenger Air Transp.
KOMRO INTERNATIONAL LLC | LLC | 1 | 14,100 | 170.0 | 0.0 | 423820 | 125 emp | Farm & Garden Machinery & Equip. Merchant Wholesalers.
CONCRETE WORKS OF COLORADO INC | Corporation | 1 | 16,190 | 170.0 | 0.0 | 238110 | $16.5 mn | Poured Concrete Foundation and Structure Contractors.
KENMORE AIR HARBOR LLC | LLC | 9 | 51,500 | 1,530.0 | 0.0 | 481111 | 1,500 emp | Scheduled Passenger Air Transportation.
Total |  | 80 | $161,997 | 13,600 |  |  |  |
Mean |  |  | 3,600 | 302 | 0.1 |  |  |
Median |  |  | 956 | 170 | 0.0 |  |  |
Notes:
1. The size standard is the maximum size for the NAICS industry considered by the Small Business Administration to be a small entity.
2. AD costs per airplane are 1 work-hour × $85 = $85 + $85 reporting costs for initial inspection, for a total of $170.
3. All percentage figures are rounded to the nearest tenth of a percent. All 0.0% figures represent values below 0.1%, but above 0%.

5. Projected Reporting, Recordkeeping, and Other Compliance Requirements

The FAA estimated that this AD, if adopted as proposed, would take about 1 work-hour per airplane at a labor rate of $85 per work-hour incorporate the inspections in Parts 2 and 3 of Viking PSM 1-2-5, Revision 1, into the existing maintenance records and comply with the initial inspection tasks of the program, plus $85 per airplane to report any corrosion found during the proposed initial inspections, for an estimated total cost of $170 per airplane.

The estimated cost of this proposed AD, per small entity, is shown in the “Cost” column of Table 1 and cost impact is measured by cost as a percentage of revenues. As the table shows, the mean cost impact is 0.1% of annual revenues,⁴ while the median cost impact of less than 0.1% shows no significant impact on any of the small entities. This impact did not vary with firm size; the largest cost impact was only 0.5%, which is still not considered significant. Therefore, the FAA finds that the proposed AD would not have a significant impact on a substantial number of small entities.

⁴ These revenue data come from online sources such as zoominfo.com, opencorporates.com, buzzfile.com, manta.com, allbiz.com, and lookupcompanyrevenue.com.

6. Significant Alternatives Considered

The FAA did not find any significant regulatory alternatives to the proposed AD that would still accomplish the safety objectives of this proposed AD.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866, and

(2) Would not have a significant economic impact, positive or negative, on a substantial number of small entities under the criteria of the RFA.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 64-09-03, Amendment 718 (29 FR 5390, April 22, 1964); and

b. Adding the following new airworthiness directive:

Viking Air Limited (Type Certificate Previously Held by Bombardier Inc. and de Havilland Inc.): Docket No. FAA-2022-0190; Project Identifier 2019-CE-048-AD.

(a) Comments Due Date

The FAA must receive comments on this airworthiness directive (AD) by June 9, 2023.

(b) Affected ADs

This AD replaces AD 64-09-03, Amendment 718 (29 FR 5390, April 22, 1964).

(c) Applicability

This AD applies to Viking Air Limited (type certificate previously held by Bombardier Inc. and de Havilland, Inc.) Model DHC-2 Mk. I, DHC-2 Mk. II, and DHC-2 Mk. III airplanes, all serial numbers, certificated in any category.

(d) Subject

Joint Aircraft System Component (JASC) Code 2000, Airframe.

(e) Unsafe Condition

This AD was prompted by mandatory continuing airworthiness information (MCAI) originated by an aviation authority of another country to identify and correct an unsafe condition on an aviation product. The MCAI describes the unsafe condition as corrosion-related degradation in aging aircraft. The FAA is issuing this AD to detect and address corrosion, which could lead to structural failure with consequent loss of control of the airplane.

(f) Compliance

Comply with this AD within the compliance times specified, unless already done.

(g) Required Actions

(1) Within 90 days after the effective date of this AD, incorporate into the existing maintenance records required by 14 CFR 91.417(a)(2) or 135.439(a)(2), as applicable for your airplane, the actions and associated thresholds and intervals, including life limits, specified in Parts 2 and 3 of Viking DHC-2 Beaver Supplemental Inspection and Corrosion Control Manual, PSM 1-2-5, Revision 1, dated January 10, 2019 (Viking PSM 1-2-5, Revision 1). Do each initial task within 6 months after the effective date of this AD or at the threshold for each applicable task specified in Part 3 of Viking Product Support Manual PSM 1-2-5, Revision 1, whichever occurs later. Where Viking PSM 1-2-5, Revision 1, specifies contacting Viking for instructions on forward and rear fin attachment bolt replacement, inspection, and installation, and for a disposition regarding attachment bolts, this AD requires contacting the FAA, Transport Canada, or Viking's Transport Canada Design Organization Approval (DOA). If approved by the DOA, the approval must include the DOA-authorized signature.

Note 1 to paragraph (g): Viking DHC-2 Beaver Service Bulletin V2/0011, Revision NC, dated November 28, 2019, contains additional information related to this AD.

(2) After the action required by paragraph (g)(1) of this AD has been done, no alternative actions and associated thresholds and intervals, including life limits, are allowed unless they are approved as specified in paragraph (i) of this AD.

(h) Reporting

(1) For inspections done after the effective date of this AD, report to Viking any Level 2 or Level 3 corrosion, as specified in Viking PSM 1-2-5, Revision 1, at the times specified in and in accordance with part 3, paragraph 5, of Viking PSM 1-2-5, Revision 1.

(2) For inspections done before the effective date of this AD, within 30 days after the effective date of this AD report to Viking any Level 2 or Level 3 corrosion, as specified in Viking PSM 1-2-5, Revision 1, in accordance with part 3, paragraph 5, of Viking PSM 1-2-5, Revision 1.

(i) Alternative Methods of Compliance (AMOCs)

(1) The Manager, New York ACO Branch, FAA, has the authority to approve AMOCs for this AD, if requested using the procedures found in § 39.19. In accordance with § 39.19, send your request to your principal inspector or local Flight Standards District Office, as appropriate. If sending information directly to the manager of the New York ACO Branch, mail it to ATTN: Program Manager, Continuing Operational Safety, at the address identified in paragraph (j)(2) of this AD or email to: 9-avs-nyaco-cos@faa.gov. If mailing information, also submit information by email.

(2) Before using any approved AMOC, notify your appropriate principal inspector, or lacking a principal inspector, the manager of the local flight standards district office/certificate holding district office.

(3) An AMOC that provides an acceptable level of safety may be used for any repair, modification, or alteration required by this AD if it is approved specifically for this AD by the Manager, New York ACO Branch, FAA.

(j) Additional Information

(1) Refer to the MCAI from Transport Canada, AD CF-2019-25, dated July 5, 2019, for related information. This Transport Canada AD may be found in the AD docket at regulations.gov under Docket No. FAA-2022-0190.

(2) For more information about this AD, contact James Delisio, Continued Operational Safety Program Manager, FAA, New York ACO Branch, 1600 Stewart Avenue, Suite 410, Westbury, NY 11590; phone: (516) 228-7321; email: 9-avs-nyaco-cos@faa.gov.

(3) Service information identified in this AD that is not incorporated by reference is available at the addresses specified in paragraphs (k)(3) and (4) of this AD.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Viking DHC-2 Beaver Supplemental Inspection and Corrosion Control Manual, PSM 1-2-5, Revision 1, dated January 10, 2019.

(ii) [Reserved]

(3) For service information identified in this AD, contact Viking Air Limited Technical Support, 1959 De Havilland Way, Sidney, British Columbia, Canada, V8L 5V5; phone: (800) 663-8444; fax: (250) 656-0673; email: technical.support@vikingair.com; website: vikingair.com/support/service-bulletins.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on April 13, 2023.
Christina Underwood,
Acting Director, Compliance & Airworthiness Division, Aircraft Certification Service.

[FR Doc. 2023-08551 Filed 4-24-23; 8:45 am]

BILLING CODE 4910-13-P